COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add a product to the Procurement List that will be furnished by nonprofit agencies employing persons who are blind or have other severe disabilities, and delete service(s) that was previously furnished by such agencies.

DATES: Comments must be received on or before: August 7, 2022.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) are proposed for addition to the Procurement List for production by the nonprofit agencies listed:

Product(s)

NSN(s)—Product Name(s):

MR 16900—Set, Birthday Bag, Small

MR 16901—Set, All-Occasion Bag, Small

MR 16902—Set, Birthday Bag, Medium

MR 16903—Set, All-Occasion Bag, Medium

Designated Source of Supply: Winston-Salem Industries for the Blind, Inc, Winston-Salem, NC

Contracting Activity: Military Resale-Defense Commissary Agency

Distribution: C-List

Mandatory for: The requirements of military commissaries and exchanges in accordance with the 41 CFR 51-6.4

Deletions

The following service(s) are proposed for deletion from the Procurement List:

Service(s)

Service Type: ESD—Tier 1 Call Center Service

Mandatory for: Defense Logistics Agency, DLA Headquarters, Satellite Offices (NoVA & DC area), CONUS & OCONUS, 700 Robbins Avenue, Philadelphia, PA

Designated Source of Supply: Peckham Vocational Industries, Inc., Lansing, MI

Contracting Activity: DEFENSE LOGISTICS AGENCY, DCSO PHILADELPHIA

Service Type: Janitorial/Custodial

Mandatory for: VA Medical Center: Dental Laboratory, Washington, DC

Designated Source of Supply: Columbia Lighthouse for the Blind

Contracting Activity: DEPARTMENT OF VETERANS AFFAIRS, NAC, HINES, IL

Michael R. Jurkowski,
Acting Director, Business Operations.

[FR Doc. 2022-14571 Filed 7-7-22; 8:45 am]

BILLING CODE 6353-01-P